INTERNATIONAL TRADE COMMISSION

[Investigation No. 337-TA-1394]

Certain Liquid Coolers for Electronic Components in Computers, Components Thereof, Devices for Controlling Same, and Products Containing Same; Notice of a Commission Determination Finding a Violation of Section 337; Issuance of a Limited Exclusion Order and a Cease and Desist Order; Termination of the Investigation

AGENCY: U.S. International Trade Commission.

ACTION: Notice.

SUMMARY: Notice is hereby given that the U.S. International Trade Commission (“Commission”) has determined to affirm, with supplementary findings, the final initial determination (“ID”) of the presiding administrative law judge (“ALJ”) finding a violation of section 337 of the Tariff Act of 1930, as amended, 19 U.S.C. 1337. The Commission has determined to issue a limited exclusion order prohibiting further importation of infringing products by the respondents and a cease and desist order as to one respondent.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on March 21, 2024, based on a complaint filed on behalf of Cooler Master Co., Ltd. of Taiwan; CMI USA, Inc. of Claremont, California; and CMC Great USA, Inc. of San Jose, California (collectively, “Complainants”). 89 FR 20247-48 (Mar. 21, 2024). The complaint, as supplemented, alleges violations of section 337 of the Tariff Act of 1930, as amended, 19 U.S.C. 1337, in the importation into the United States, the sale for importation, or the sale within the United States after importation of certain liquid coolers for electronic components in computers, components thereof, devices for controlling same, and products containing same by reason of infringement of claims 1-3 and 14 of U.S. Patent No. 10,509,446 (“the '446 patent”); claims 1-4 of U.S. Patent No. 11,061,450 (“the '450 patent”); and the claim of U.S. Patent No. D856,941 (“the '941 design patent”). Id. The complaint further alleges that a domestic industry exists. Id. The Commission's notice of investigation named as respondents SilverStone Technology Co., Ltd. of Taiwan; SilverStone Technology, Inc. of Chino, California; Enermax Technology Corp. of Taiwan; Enermax USA of Chino, California; Shenzhen Apaltek Co., Ltd. of China; and Guangdong Apaltek Liquid Cooling Technology Co., Ltd. of China (collectively, “Respondents”). Id. The Office of Unfair Import Investigations is not participating in the investigation. Id.

The '941 design patent was terminated from the investigation by withdrawal of the complaint. Order No. 7 (Sept. 6, 2024), unreviewed by Comm'n Notice (Sept. 30, 2024).

A claim construction hearing was held on July 19, 2024, and a claim construction order issued on November 20, 2024. Order No. 10 (Nov. 20, 2024). An evidentiary hearing was held on December 2-5, 2024.

On March 21, 2025, the ALJ issued a final initial determination (“ID”) finding a violation of section 337 based on infringement of claims 1-3 and 14 of the '446 patent and claims 1-4 of the '450 patent. The ID included a recommended determination (“RD”) on remedy and bonding that recommended issuance of a limited exclusion order directed to the Respondents and a cease and desist order directed to one respondent. See ID at 142-43.

On May 22, 2025, the Commission determined to review the ID in part. 90 FR 22755-56. The Commission solicited briefing from the parties regarding certain issues under review. Id. The parties filed initial submissions on June 4 and June 5, 2025, and the parties filed reply submissions on June 12, 2025.1 2

¹ On April 28, 2025, Respondents filed a motion for leave to correct a misstatement in Complainants' response to the petition for review, and on May 6, 2025, Complainants filed a response in opposition to the motion. In view of the additional briefing submitted by the parties on review, this motion is denied as moot.

² On June 19, 2025, Respondents moved for leave to file a corrected submission, and this motion was denied. See Respondents' Motion to Chair for Leave to File Corrected Submission at 1-2 (June 19, 2025), denied by Letter from Office of the Secretary, EDIS Doc. ID 854638 (June 25, 2025).

Having reviewed the record of the investigation, including the ALJ's findings and the parties' submissions, the Commission has determined to affirm the ID's finding of a violation of section 337 and to supplement the ID with additional findings regarding the “defining a heat exchange chamber” claim limitation and the economic prong of the domestic industry requirement.

The Commission has determined that the appropriate remedy is to issue a limited exclusion order prohibiting further importation of infringing products by the Respondents and a cease and desist order against Respondent SilverStone Technology, Inc.³ The Commission has determined that the public interest factors do not counsel against issuing remedial orders. The Commission has determined that bond should be set in the amount of zero percent (0%) of entered value (i.e., no bond).

³ The covered products in the remedial orders are liquid coolers for electronic components in computers, components thereof, and products containing same that infringe one or more of claims 1-3 and 14 of the '446 patent or claims 1-4 of the '450 patent.

The Commission vote for this determination took place on July 24, 2025.

This action is taken under the authority of section 337 of the Tariff Act of 1930, as amended (19 U.S.C. 1337), and in Part 210 of the Commission's Rules of Practice and Procedure (19 CFR part 210).

By order of the Commission.
Issued: July 24, 2025.
Susan Orndoff,
Supervisory Attorney.

[FR Doc. 2025-14249 Filed 7-28-25; 8:45 am]

BILLING CODE 7020-02-P